DEPARTMENT OF DEFENSE

Office of the Secretary

[Docket ID DOD-2013-OS-0199]

Submission for OMB Review; Comment Request

AGENCY: Office of the Under Secretary of Defense for Acquisition and Sustainment, DoD.

ACTION: 30-Day information collection notice.

SUMMARY: The Department of Defense has submitted to OMB for clearance the following proposal for collection of information under the provisions of the Paperwork Reduction Act.

DATES: Consideration will be given to all comments received by March 13, 2019.

ADDRESSES: Comments and recommendations on the proposed information collection should be emailed to Ms. Jasmeet Seehra, DoD Desk Officer, at oira_submission@omb.eop.gov. Please identify the proposed information collection by DoD Desk Officer, Docket ID number, and title of the information collection.

FOR FURTHER INFORMATION CONTACT: Fred Licari, 571-372-0493, or whs.mc-alex.esd.mbx.dd-dod-information-collections@mail.mil.

SUPPLEMENTARY INFORMATION:

Title; Associated Form; and OMB Number: Project Time Record System; OMB Control Number 0704-0452.

Type of Request: Reinstatement without change.

Number of Respondents: 1,200.

Responses per Respondent: 52.

Annual Responses: 62,400.

Average Burden per Response: 15 minutes.

Annual Burden Hours: 15,600.

Needs and Uses: This collection of information is for the purpose of tracking Defense Logistics Agency (DLA) contractor workload/project activity, time and attendance, and labor distribution and data for analysis and reporting, management, and planning purposes. Additionally, the data allows government supervisors to maintain management records associated with the operations of contracts and to evaluate and monitor contractor performance and other matters concerning contracts. Government supervisors are able to monitor all aspects of a contract and resolve any discrepancy in hours billed to DLA. Records devoid of personal identifiers are used for extraction or compilation of data and reports for management studies and statistical analyses for use internally as required by the Department of Defense (DoD).

Affected Public: Individuals or households.

Frequency: Weekly.

Respondent's Obligation: Voluntary.

OMB Desk Officer: Ms. Jasmeet Seehra.

You may also submit comments and recommendations, identified by Docket ID number and title, by the following method:

• Federal eRulemaking Portal: http://www.regulations.gov. Follow the instructions for submitting comments.

Instructions: All submissions received must include the agency name, Docket ID number, and title for this Federal Register document. The general policy for comments and other submissions from members of the public is to make these submissions available for public viewing on the internet at http://www.regulations.gov as they are received without change, including any personal identifiers or contact information.

DOD Clearance Officer: Mr. Frederick Licari.

Requests for copies of the information collection proposal should be sent to Mr. Licari at whs.mc-alex.esd.mbx.dd-dod-information-collections@mail.mil.

Dated: February 6, 2019.
Shelly E. Finke,
Alternate OSD Federal Register, Liaison Officer, Department of Defense.

[FR Doc. 2019-01806 Filed 2-8-19; 8:45 am]

BILLING CODE 5001-06-P